ENVIRONMENTAL PROTECTION AGENCY

[HQ-OARM-2006-0100; FRL-8036-6]

Privacy Act System of Records

AGENCY: Environmental Protection Agency.

ACTION: Notice of amendment to existing Privacy Act System of Records .

SUMMARY: The Environmental Protection Agency (EPA or “Agency”) is amending a Privacy Act system of records entitled “PeoplePlus Payroll, Time and Labor Application System” to reflect the Agency's transfer of payroll processing services from EPA to the Defense Finance and Accounting Service (DFAS) in FY2006. Under the President's Management Agenda e-Payroll initiative, federal agencies are required to select one of four consolidated government-wide payroll service providers. EPA selected DFAS because its system was the most compatible with EPA's existing systems and accounting structure. DFAS will compute the Agency payroll and make all payments. This notice also notifies the public of the additional routine uses for the payroll data. This notice does not affect any Privacy Act rights already accorded individuals who are the subject of Agency payroll records. This action gives notice that payroll processing will be performed by DFAS and adds compatible routine uses.

DATES: Person wishing to comment on this revised system of records notice may do so by April 5, 2006. Unless there is a further notice in the Federal Register, this revised system of records will become effective on April 5, 2006.

ADDRESSES: Questions regarding this notice should be referred to Zandra Kern at (202) 564-7721.

FOR FURTHER INFORMATION CONTACT: Zandra Kern, Washington Finance Center, Office of Financial Services, Office of the Chief Financial Officer, U.S. Environmental Protection Agency, 1200 Pennsylvania Ave., NW., (MC 2734R), Washington, DC 20460, 202-564-7721.

SUPPLEMENTARY INFORMATION:

I. General Information

DFAS will prepare and process payroll for EPA employees and for employees of the Department of Transportation's Surface Transportation Board (STB). DFAS will compute each employee's gross pay, subtract all applicable deductions and benefits and forward net payments to banks, and report back the results. The Agency will then perform labor distribution and enter the information into the Agency's central accounting system. Transferring payroll processing services is part of an overall e-government effort led by the Office of Personnel Management (OPM) to consolidate executive branch payroll providers and to simplify and standardize civilian payroll procedures across the Federal government. This action gives notice that the payroll processing function is being transferred to DFAS and new routine uses are being added.

EPA has established an official public docket for this action under Docket ID No. EPA-HQ-OARM-2006-0100. The official public docket is the collection of materials that is available for public viewing at the Office of Environmental Information (OEI) Docket in the EPA Docket Center, (EPA/DC) EPA West, Room B102, 1301 Constitution Ave., NW., Washington, DC. The EPA Docket Center Public Reading Room is open from 8:30 a.m. to 4:30 p.m., Monday through Friday, excluding legal holidays. The telephone number for the Reading Room is (202) 566-1744, and the telephone number for the OEI Docket is (202) 566-1752.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified above.

Dated: February 15, 2006.
Linda A. Travers,
Acting Assistant Administrator and Chief Information Officer.

EPA-1

System Name:

PeoplePlus Payroll, Time and Labor Application.

System Location:

National Computer Center, Environmental Protection Agency, Research Triangle Park, North Carolina 27711.

Categories of Individuals Covered by the System:

Current and former EPA employees including Health and Human Services Public Health Service Commissioned Officers assigned to EPA and employees of the Surface Transportation Board (formerly the Interstate Commerce Commission), Department of Transportation.

Categories of Records Covered by the System:

This system contains personnel, basic benefits, pay, cash awards, and leave records. This includes, but is not limited to, employee information such as: Name(s), date of birth, social security number, home and mailing addresses, grade, employing organization, salary, pay plan, number of hours worked, overtime, compensatory time, leave accrual rate, leave usage and balances, Civil Service Retirement and Federal Retirement System contributions, FICA withholdings, Federal, State, and city tax withholdings, Federal Employee Group Life Insurance withholdings, Federal Employee Health Benefits withholdings, charitable deductions, allotments to financial organizations, garnishments, savings bonds allotments, union dues withholdings, deductions for Internal Revenue Service levies, court ordered child support levies, Federal salary offset deductions, and information on the Leave Transfer Program and the Leave Bank Program.

Authority for Maintenance of the System:

5 U.S.C. 5101 et seq.; 5 U.S.C. 5501 et seq.; 5 U.S.C. 5525 et seq.; 5 U.S.C. 5701 et seq.; 5 U.S.C. 6301 et seq.; 31 U.S.C. 3512; Executive Order 9397 (Nov. 22, 1943); 5 U.S.C. 6362; 5 U.S.C. 6311.

Purpose(s):

The records are needed to administer EPA's pay and leave requirements, including processing, accounting and reporting requirements.

Routine Uses of Records Maintained in the System, Including Categories of Users, and the Purposes of Such Uses:

A. To the Department of the Treasury to issue checks, make payments, make electronic funds transfers, and issue U.S. Savings Bonds.

B. To the Department of Agriculture National Finance Center to credit Thrift Savings Plan deductions and loan payments to employee accounts.

C. To the Department of Labor in connection with a claim filed by an employee for compensation due to a job connected injury or illness.

D. To the Internal Revenue Service; Social Security Administration; and State and local tax authorities in connection with the withholding of employment taxes.

E. To the State Unemployment Offices in connection with a claim filed by former employees for unemployment benefits.

F. To the officials of labor organizations as to the identity of employees contributing union dues each pay period and the amount of dues withheld from each employee.

G. To the Office of Personnel Management and to Health Benefit carriers in connection with enrollment and payroll deductions.

H. To the Office of Personnel Management in connection with employee retirement and life insurance deductions

I. To the Combined Federal Campaign in connection with payroll deductions for charitable contributions.

J. To the Office of Management and Budget and Department of the Treasury to provide required reports on financial management responsibilities.

K. To provide information as necessary to other Federal, State, local or foreign agencies conducting computer matching programs to help eliminate fraud and abuse and to detect unauthorized overpayments made to individuals. When disclosures are made as part of computer matching programs, EPA will comply with the Computer Matching and Privacy Protection Act of 1988.

L. To the Internal Revenue Service in connection with withholdings for tax levies.

M. To the Social Security Administration and the Department of Health and Human Services to provide information on newly hired employees for child support enforcement purposes.

N. To the Department of Health and Human Services in connection with the master personnel and payroll files for their Public Health Service Officers.

O. To the Defense Finance and Accounting Service to provide payroll processing services.

P. To the Federal Retirement Benefit Contractors to enable employees to receive retirement benefit calculations.

EPA's General Routine Uses:

A, B, C, D, E, F, G, H, I, J, and K apply to this system.

Policies and Practices For Storing, Retrieving, Accessing, Retaining, and Disposing of Records in the System:

Storage:

These records are maintained in hard copy formats and computer processable storage media such as computer tapes and disks. The computer storage devices are located in the National Computer Center, Research Triangle Park, North Carolina. Backup tapes are maintained at a disaster recovery site.

Retrievability:

These records are retrieved by the employee identification number or name.

Safeguards:

Computer records are maintained in a secure password protected environment. Access to computer records is limited to those who have a need to know. Permission level assignments allow users access only to those functions for which they are authorized. Paper records are maintained in locked metal file cabinets. All records are maintained in secure, access-controlled areas or buildings.

Retention and Disposal:

The retention of data in the system is in accordance with applicable EPA Records Schedules, as approved by the National Archives and Records Administration. Employee records are retained on magnetic tapes for an indefinite period. Hard copy records are maintained for varying periods of time, at which time they are disposed of by shredding.

System Manager(s) and Address:

Director, Office of Financial Services, Office of the Chief Financial Officer, U.S. Environmental Protection Agency, 1200 Pennsylvania Avenue, NW., (MC 2734R), Washington, DC 20460.

Notification Procedures:

Individuals who want to know whether this system of records contains information about them, who want to access their records, or who want to contest the contents of a record, should make a written request to the EPA Privacy Act Officer, Freedom of Information Office, U.S. Environmental Protection Agency, 1200 Pennsylvania Ave., NW., (MC 2822T), Washington, DC 20460 or via the Agency's Privacy Act Web site at http://www.epa.gov/privacy or by fax, (202) 566-1639. Individuals must furnish the following information for their records to be located and identified:

A. Full name.

B. The request relates to the PeoplePlus Payroll, Time and Labor Application Privacy Act system of records.

C. A statement indicating the type of request being made (i.e., access, correction or amendment) and whether a personal inspection of the records or a copy of them by mail is desired.

D. Signature.

These requirements and related provisions are set forth in EPA's Privacy Act regulations, 40 CFR Part 16, as amended (2006), which are available on the Agency's Privacy Act Web site at http://www.epa.gov/privacy/laws/index.htm

Record Access Procedures:

Individuals wishing to request access to their records should follow the Notification Procedures. Individuals requesting access are also required to provide adequate identification, such as a driver's license, employee identification card, social security card, credit card or other identifying document. Additional identification procedures may be required in some instances.

Contesting Record Procedures:

Individuals requesting correction or amendment of their records should follow the Notification Procedures and the Record Access Procedures and also identify the record or information to be changed, giving specific reasons for the change. Complete EPA Privacy Act procedures are set out in 40 CFR part 16, as amended (2006).

Record Source Categories:

Information in this system of records is provided by:

A. The individual on whom the record is maintained.

B. Agency officials such as managers and supervisors.

C. Consumer reporting agencies, debt collection agencies, Department of the Treasury, and other Federal agencies.

D. Federal Retirement Benefit contractors.

E. Leave Bank

System Exempted From Certain Provisions of the Act:

None.

[FR Doc. 06-1739 Filed 2-23-06; 8:45 am]

BILLING CODE 6560-50-P